DEPARTMENT OF COMMERCE

International Trade Administration

Trade Promotion Coordinating Committee

AGENCY: International Trade Administration, U.S. Department of Commerce.

ACTION: Notice and request for nominations from state, local, and municipal governments to the trade promotion coordinating committee state and federal export promotion coordination working group.

SUMMARY: The Secretary of Commerce, as Chair of the Trade Promotion Coordinating Committee (TPCC), announces the establishment of the State and Federal Export Promotion Coordination Working Group as a subcommittee of the TPCC. The Trade Facilitation and Trade Enforcement Act of 2015 (the Act) requires the President to establish this Working Group as a subcommittee of the TPCC to identify issues related to the coordination of Federal resources relating to export promotion and export financing with such resources provided by State and local governments.

DATES: Nominations for the Working Group must be received electronically on or before 5:00 p.m. (ET) on October 24, 2016.

FOR FURTHER INFORMATION CONTACT: Patrick Kirwan, Director, Trade Promotion Coordinating Committee Secretariat, Room 31027, U.S. Department of Commerce, 1401 Constitution Avenue NW., Washington, DC 20230, telephone: 202-482-5455, email: StateandLocal@trade.gov.

SUPPLEMENTARY INFORMATION:

Table of Contents

I. Background

II. Establishment of Working Group

III. Member and Meeting Information

IV. Request for Nominations

I. Background

The TPCC is an interagency group mandated by Congress (15 U.S.C. 4727) and chaired by the Secretary of Commerce. It was established to provide a unifying framework to coordinate the export promotion and financing activities of the U.S. Government, as well as to develop a government wide strategic plan for carrying out Federal export promotion and export financing programs. The United States does not have a single agency or government department responsible for creating a unified approach to governing export promotion; instead, 20 different departments and agencies approach exports with differing mandates. The TPCC serves as the coordinating body designed to ensure that these agencies and departments act together and work to implement the Administration's export promotion agenda, through periodic principals meetings and more frequent working group meetings on a variety of subjects.

The TPCC statutory mandate includes:

(1) Coordinate the development of the trade promotion policies and programs of the United States Government;

(2) provide a central source of information for the business community on Federal export promotion and export financing programs;

(3) coordinate official trade promotion efforts to ensure better delivery of services to United States businesses, including: (a) Information and counseling on United States export promotion and export financing programs and opportunities in foreign markets; (b) representation of United States business interests abroad; and (c) assistance with foreign business contacts and projects;

(4) prevent unnecessary duplication in Federal export promotion and export financing activities; and

(5) assess the appropriate levels and allocation of resources among agencies in support of export promotion and export financing and provide recommendations to the President based on its assessment.

In carrying out that mandate, the TPCC develops and implements an annual government wide strategic plan for Federal trade promotion efforts. The annual strategic plan establishes a set of priorities for Federal activities in support of U.S. exports; explains the rationale for the priorities; reviews current Federal programs designed to promote U.S. exports in light of those priorities; identifies areas of overlap and duplication and proposes means of eliminating them; proposes an annual unified Federal trade promotion budget to the President; reviews efforts by the States to promote exports and proposes means of developing cooperation between State and Federal efforts; and reflects certain recommendations regarding the promotion of travel and tourism exports as appropriate.

For additional information, including the list of TPCC member departments and agencies, please see https://www.export.gov/article?id=What-is-the-TPCC.

II. Establishment of Working Group

Section 504(a) of the Trade Facilitation and Trade Enforcement Act of 2015 (“Act”), amended the Export Enhancement Act of 1988 to add a new section 2313A. Section 2313A notes that U.S. policy is to promote exports as an opportunity for small businesses, and in exercising their powers and functions to advance that policy, all Federal agencies shall work constructively with State and local agencies engaged in export promotion and export financing activities. Section 2313A directs the President to establish the State and Federal Export Promotion Coordination Working Group (“Working Group”) under the TPCC with the purposes to:

(1) Identify issues related to the coordination of Federal resources relating to export promotion and export financing with such resources provided by State and local governments;

(2) identify ways to improve coordination with respect to export promotion and export financing activities through the TPCC annual strategic plan;

(3) develop a strategy for improving coordination of Federal and State resources relating to export promotion and export financing, including methods to eliminate duplication of effort and overlapping functions; and

(4) develop a strategic plan for considering and implementing the suggestions of the Working Group as part of the TPCC annual strategic plan.

The President issued Executive Order No. 13733, Delegation of Certain Authorities and Assignment of Certain Functions under the Trade Facilitation and Trade Enforcement Act of 2015, on July 22, 2016, assigning to the Secretary of Commerce the function under Section 2313A(b) of establishing the Working Group. In the Executive Order, the President further directed that, in carrying out its functions, the State and Federal Export Promotion Coordination Working Group shall also coordinate with local and municipal governments representing regionally diverse areas.

III. Member and Meeting Information

The Secretary of Commerce shall select the members of the Working Group, who shall include representatives from State trade agencies and local and municipal governments representing regionally diverse areas and representatives of the federal departments and agencies that are represented on the TPCC. Representatives from State trade agencies must be: (1) Elected officers of a State, or (2) State employees designated by an elected State officer to represent the State trade agency with authority to act on his or her behalf. Representatives from local and municipal governments must be: (1) Elected officers or (2) local or municipal employees designated by an elected officer to represent the local and municipal government with authority to act on his or her behalf.

Because the Working Group will be an intergovernmental committee composed wholly of full-time or part-time Federal Government officers or employees, State government elected officers or their designees, and local and municipal elected officials or their designees, all of whom will be acting in their official capacities solely to exchange views, information, or advice relating to the management and implementation of Federal programs established by statute that explicitly share intergovernmental responsibilities and administration, the Working Group is not covered by the Federal Advisory Committee Act, 5 U.S.C. App.

Members appointed as representatives from State trade agencies and local and municipal governments will not receive any Federal compensation for their services and will not be reimbursed for travel expenses. Meetings will be held in person and/or via teleconference. The TPCC will make every effort to use technology to allow for remote participation in meetings, but there will be times when in-person meetings will be necessary. The TPCC will strive to provide members of the Working Group notice of meetings at least 15 calendar days in advance.

IV. Request for Nominations

The TPCC Secretariat seeks nominations for representatives from State trade agencies and local and municipal governments to the Working Group. For purposes of this notice, a “State trade agency” is the lead official governmental trade promotion agency for a State, and includes separately established trade agencies as well as trade offices within a State agency or department or the Office of the Governor. A “local or municipal government” includes, but is not limited to, town, city, and county governments. The TPCC seeks representation of regionally diverse areas.

Qualified individuals may self-nominate or be nominated by a senior level State government or local or municipal government official. To be considered, nominators should submit the following information:

(1) Name, title, and relevant contact information (including phone and email address) for the nominee, the state trade agency that the nominee would represent or the local or municipal government the nominee would represent;

(2) A resume or short biography of the nominee, including professional and academic credentials.

(3) A statement of the nominee's role in state, local, or municipal export promotion activities.

Should more information be needed, TPCC staff will contact the nominee. If nominees are not an elected official, a letter may be requested from an elected official that indicates the nominee has been designated to participate in the Working Group on his or her behalf.

Nominators should submit the above information via electronic transmission to StateandLocal@trade.gov. The submission must be received on or before 5:00 p.m. (ET) on October 24, 2016.

Dated: September 23, 2016.
Patrick Kirwan,
Director, Trade Promotion Coordinating Committee Secretariat.

[FR Doc. 2016-23501 Filed 9-28-16; 8:45 am]

BILLING CODE 3510-25-P